DEPARTMENT OF LABOR

Employment and Training Administration

Investigations Regarding Certifications of Eligibility To Apply for Worker Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 30, 2003.

Interested persons are invited to submit written comments regarding the subject matter of the investigations to the Director, Division of Trade Adjustment Assistance, as the address shown below, not later than June 30, 2003.

The petitions filed in this case are available for inspection at the Office of the Director, Division of Trade Adjustment Assistance, Employment and Training Administration, U.S. Department of Labor, Room C-5311, 200 Constitution Avenue, NW., Washington, DC 20210.

Signed at Washington, DC this 11th day of June 2003.
Timothy Sullivan,
Director, Division of Trade Adjustment Assistance.

Appendix
[Petitions Instituted Between 05/19/2003 and 05/22/2003]
TA-W | Subject firm (petitioners) | Location | Date of institution | Date of petition
51,807 | Alaska Petroleum Contracts (Wkrs) | Anchorage, AK | 05/19/2003 | 05/16/2003
51,808 | Westpoint Steven, Inc. (Comp) | Roanoke Rapids, NC | 05/19/2003 | 05/16/2003
51,809 | J.C. Viramontes, Inc. (Comp) | El Paso, TX | 05/19/2003 | 05/07/2003
51,810 | Borregaard Lignotech (Wkrs) | Mt. Vernon, WA | 05/19/2003 | 05/16/2003
51,811 | Jim Michel Logging, Inc. (Comp) | Baker City, OR | 05/19/2003 | 05/14/2003
51,812 | Tecumseh Products Company (Comp) | Sheboygen Falls, WI | 05/19/2003 | 05/16/2003
51,813 | Sappi Fine Paper (PACE) | Westbrook ME | 05/19/2003 | 05/12/2003
51,814 | Nexfor Fraser Papers (Wkrs) | Madawaska, ME | 05/19/2003 | 05/13/2003
51,815 | Sharon Tube Company (USWA) | Sharon, PA | 05/19/2003 | 05/13/2003
51,816 | Daylight Harbor, Inc. (Comp) | Kodiak, AK | 05/19/2003 | 05/15/2003
51,817 | Farside Fish Camp (Comp) | Kodiak, AK | 05/19/2003 | 05/15/2003
51,818 | Federal Mogul Lighting (Comp) | Hampton, VA | 05/20/2003 | 05/20/2003
51,819 | Neuville Industries, Inc. (Comp) | Hildebran, NC | 05/20/2003 | 05/19/2003
51,820 | Orion America, Inc. (Comp) | Olney, IL | 05/20/2003 | 05/19/2003
51,821 | Moen, Inc. (Wkrs) | Wheeling, IL | 05/20/2003 | 05/19/2003
51,822 | Citimortgate, Inc. (Wkrs) | Farmington Hill, MI | 05/20/2003 | 04/04/2003
51,823 | OEM Worldwide (Wkrs) | Spearfish, SD | 05/20/2003 | 05/16/2003
51,824 | Triple L Dairy (Comp) | Oakville, WA | 05/20/2003 | 05/19/2003
51,825 | Ultra Precision (PA) | Freeport, PA | 05/20/2003 | 05/19/2003
51,826 | Schweiger (Wkrs) | Jefferson, WI | 05/20/2003 | 05/19/2003
51,827 | North American Rubber Thread (Comp) | Fall River, MA | 05/20/2003 | 05/16/2003
51,828 | Texas Instruments (Comp) | Attleboro, MA | 05/20/2003 | 05/01/2003
51,829 | Ingersoll International (Wkrs) | Rockford, IL | 05/20/2003 | 05/03/2003
51,830 | Kaneka Delaware Corp. (Comp) | Delaware City, DE | 05/20/2003 | 05/01/2003
51,831 | Kevin Thomet (Comp) | Kodiak, AK | 05/20/2003 | 05/15/2003
51,832 | American Greetings (AR) | McCrory, AR | 05/21/2003 | 05/20/2003
51,833 | Ever Corporation (AR) | Newport, AR | 05/21/2003 | 05/20/2003
51,834 | Agilent Technologies, Inc. (Wkrs) | Colorado Spring, CO | 05/21/2003 | 05/15/2003
51,835 | Agilent Technologies (Wkrs) | Loveland, CO | 05/21/2003 | 05/16/2003
51,836 | Advanced Energy (Wkrs) | Ft. Collins, CO | 05/21/2003 | 05/13/2003
51,837 | Big Idea Productions, Inc. (Wkrs) | Lombard, IL | 05/21/2003 | 05/15/2003
51,838 | Rio Grande Forest Products (Comp) | Espanola, NM | 05/21/2003 | 05/13/2003
51,839 | GE Transportation Systems (Wkrs) | Warrenburg, MO | 05/21/2003 | 05/20/2003
51,840 | Mastergear (Wkrs) | So. Beloit, WI | 05/21/2003 | 05/20/2003
51,841 | Ascot Enterprise (Wkrs) | Lincolnton, GA | 05/21/2003 | 05/20/2003
51,842 | Caterpillar, Inc. (Comp) | LeLand, NC | 05/21/2003 | 05/12/2003
51,843 | Mercury Minnesota, Inc. (MN) | Faribault, MN | 05/21/2003 | 05/14/2003
51,844 | F/V Kindred Spirit (Comp) | Bellingham, WA | 05/21/2003 | 05/16/2003
51,845 | F/V Dusty (Comp) | Pelican, AK | 05/21/2003 | 05/16/2003
51,846 | Legendary Holdings (Wkrs) | Chula Vista, CA | 05/22/2003 | 05/13/2003
51,847 | Morgan Lumber (ME) | Bingham, ME | 05/22/2003 | 05/21/2003
51,848 | W.S.W. Co. of Sharon, Inc. (Comp) | Sharon, TN | 05/22/2003 | 05/12/2003
51,849 | Spencer and Reynolds, Inc. (Comp) | Rancho Cucamong, CA | 05/22/2003 | 05/05/2003
51,850 | American Colloid (IBT) | Paris, TN | 05/22/2003 | 05/22/2003
51,851 | Northwest Airlines (AMEA) | Duluth, MN | 05/22/2003 | 05/16/2003
51,852 | Unifi, Inc. (Wkrs) | Madison, NC | 05/22/2003 | 05/15/2003
51,853 | Gentry Mills, Inc. (Comp) | Albermarle, NC | 05/22/2003 | 05/21/2003
51,854 | Factory Service, Inc. (Comp) | Minfola, NY | 05/22/2003 | 05/21/2003
51,855 | Plexus EAC (Wkrs) | Neenah, WI | 05/22/2003 | 05/21/2003
51,856 | Alcoa Intalco Works (IAMAW) | Ferndale, WA | 05/22/2003 | 05/14/2003
51,857 | Solectron Corporation (Comp) | Westboro, MA | 05/22/2003 | 05/22/2003
51,858 | Occidental Chemical Corp. (Comp) | Castle Hayne, NC | 05/22/2003 | 05/15/2003
51,859 | JDS Uniphase (Wkrs) | RTP, NC | 05/22/2003 | 05/22/2003
51,860 | Solutia, Inc. (IBT) | Trenton, MI | 05/22/2003 | 04/11/2003
51,861 | Blauer Manufacturing Co., Inc. (Comp) | Charleston, MS | 05/22/2003 | 05/16/2003

[FR Doc. 03-15458 Filed 6-18-03; 8:45 am]

BILLING CODE 4510-30-M